COMMODITY FUTURES TRADING COMMISSION

Notice of Intent To Undertake a Determination Whether Various SP-15 Financial Day-Ahead Contracts Offered for Trading on the IntercontinentalExchange, Inc. Perform a Significant Price Discovery Function

AGENCY: Commodity Futures Trading Commission.

ACTION: Reopening comment period.

SUMMARY: The Commodity Futures Trading Commission (“Commission”) is reopening the comment period for interest persons to comment on the Commission's October 6, 2009 Notice of Intent to consider whether the following contracts offered for trading on the IntercontinentalExchange, Inc. perform a significant price discovery function: SP-15 Financial Day-Ahead LMP Peak Contract; SP-15 Financial Day-Ahead LMP Peak Daily Contract; SP-15 Financial Day-Ahead LMP Off-Peak Daily Contract; SP-15 Financial Swap Real Time LMP—Peak Daily Contract; SP-15 Financial Day-Ahead LMP Off-Peak Contract; NP-15 Financial Day-Ahead LMP Peak Daily Contract; and NP-15 Financial Day-Ahead LMP Off-Peak Daily Contract.

DATES: Written comments must be received by November 27, 2009.

ADDRESSES: Interested persons should submit their views and comments to David Stawick, Secretary, Commodity Futures Trading Commission, Three Lafayette Centre, 1155 21st Street, NW., Washington, DC 20581. In addition, comments may be sent by facsimile transmission to (202) 418-5521, or by electronic mail to secretary@cftc.gov. Include the subject contracts by name in the subject or reference line of the comment.

FOR FURTHER INFORMATION CONTACT: Martin Murray, Assistant Associate Director for Product Review, Division of Market Oversight, Commodity Futures Trading Commission, Three Lafayette Centre, Washington, DC 20581. Telephone: (202) 418-5276. E-mail: mmurray@cftc.gov. Susan Nathan, Senior Special Counsel, Division of Market Oversight, same address. Telephone: (202) 418-5133. E-mail: snathan@cftc.gov.

SUPPLEMENTARY INFORMATION: On October 6, 2009, the Commission published for comment a notice of intent to undertake a determination, pursuant to section 2(h)(7) of the Commodity Exchange Act and Commission rule 36.3(c), whether the above-referenced contracts perform a significant price discovery function.¹ The Commission established a 15-day period for submitting public comment; the comment period closed on October 21, 2009. The notice of intent has generated substantial interest, and a number of commenters and potential commenters have informally requested that the Commission provide additional time in which to submit their views. In response to these requests, and in order to ensure that an adequate opportunity is provided for submission of meaningful comments, the Commission has determined to reopen the comment period for an additional 15 days.

¹ 74 FR 51264.

Issued in Washington, DC, on November 5, 2009 by the Commission.
David A. Stawick,
Secretary of the Commission.

[FR Doc. E9-27162 Filed 11-10-09; 8:45 am]

BILLING CODE 6351-01-P